DEPARTMENT OF AGRICULTURE

Forest Service

Lower Tucannon Ecosystem Maintenance Project, Umatilla National Forest, Columbia County, WA

AGENCY: Forest Service, USDA.

ACTION: Notice of intent to prepare an environmental impact statement.

SUMMARY: The USDA Forest Service will prepare an environmental impact statement (EIS) to disclose the environmental effects of watershed restoration and ecosystem maintenance actions in the Little Tucannon sub-watershed of the Upper Tucannon watershed located on the Umatilla National Forest. The Lower Tucannon analysis area is located approximately 12 air miles southwest of Pomeroy, Washington. Proposed Actions include: landscape prescribed fire, commercial timber harvest, and native plant species re-vegetation to promote and improve ecosystem sustainability, reducing fuels to historic levels in dry forest types, through mechanical methods and prescribed fire; move dry and moist forest types, in the analysis area, closer to historic vegetative stocking levels and species composition; and conduct road obliteration, road reconstruction, and construction of temporary roads. The Proposed Actions are being considered together because they represent either connected or cumulative actions. This EIS will be consistent with the 1990 Umatilla National Forest Land and Resource Management Plan (Forest Plan) for the, which provides overall guidance for forest management of the area. All activities associated with this proposal will be designed for maintenance or improvement of the forest ecosystems, watersheds, vegetation, wildlife, and fisheries resources.

DATES: Written comments concerning the scope of the analysis must be received by August 30, 2003.

ADDRESSES: Send written comments and suggestions to Monte Fujishin, District Ranger, Pomeroy Ranger District, 71 West Main, Pomeroy, Washington 99347.

FOR FURTHER INFORMATION CONTACT: Randall Walker, Project Team Leader, Pomeroy Ranger District. Phone: (509) 843-1891.

SUPPLEMENTARY INFORMATION: The project area contains approximately 16,300 acres within the Umatilla National Forest in Columbia County, Washington. It encompasses an area of the Upper Tucannon watershed from San Sousi Spring along the Little Tucannon and Tucannon Rivers north to the National Forest Boundary. Legal description is as follows: portions of Sections 1, 2, 11, 12, 13, and 14 of Township 8 North, Range 40 East; Sections 5 and 6 of Township 8 North, Range 41 East; Sections 24, 25, 26, 35, and 36 of Township 9 North, Range 40 East; Sections 2, 3, 4, 9-24, and 26-35 of Township 9 North, Range 41 East, W.M. surveyed. All proposed activities are outside the boundaries of any wilderness area. Approximately 7,360 acres of the analysis area are within Inventoried Roadless Areas (Willow Springs (6,100 acres) and Meadows Creek (1,250 acres)).

Purpose and Need for Action. Findings from the Tucannon Watershed Assessment identify that past fire suppression activities, selective harvest, and recent drought conditions have contributed to the ongoing degradation of forest ecosystem sustainability in the watershed. These past activities and climate conditions have transformed the ecosystem processes and altered stand structure, tree species composition, and the tree stocking levels of forest stands in the watershed to non-historic levels, and have directly contributed to increased fuel loading. The purpose of this project is to develop and analyze a combination of actions that best responds to the recommendations of the responsible official and the findings of the Tucannon Watershed Assessment. The need for prompt action emphasizes implementation of ecosystem management projects to promote healthy watershed conditions. To promote ecosystem based management there is a need to provide direction to encourage and sustain long-term vegetation enhancement, wildlife habit improvements, long-term recreation use planning, and the maintenance and/or improvement of sustainable fish and wildlife habitat.

Propose Action. The Proposed Action will be consistent with the Forest Plan, as amended, which provides goals, objectives, standards, and guidelines for the various activities and land allocations on the forest. The following acres of various land allocations located within the analysis area will be affected: A3-Viewshed 1 (54 acres); A6-Developed Recreation (7 acres); C1-Dedicated Old Growth (508 acres); C3-Big Game Winter Range (8,847 acres); C4-Wildlife Habitat (4,256 acres); C5-Riparian and Wildlife (523 acres); C8-Grass-Tree Mosaic (1,280 acres); and E2-Timber and Big Game (775 acres). The total analysis area is 16,251 acres. Timber management (harvest) for the project is only proposed in management area C3, C4, and E2. Fuels treatment for this project are proposed in all management allocations. The Forest Service proposes to reduce conifer stocking levels on approximately 10,000 acres of forested land (5,000 acres of which are within roadless) by removing diseased, overstocked, or high risk trees through manual thinning and prescribed burning. Approximately 4,500 (no acres within roadless) of the above 10,000 acres may be commercial thinned, yielding approximately 20 million board feet of timber. Approximately one half of these commercial acres would require helicopter yarding. Less than two miles of temporary road construction would be needed to access timber harvest areas. All temporary roads would be obliterated following completion of sale activities. No road construction or reconstruction is being proposed within the roadless areas. An additional 3.5 miles of existing roads that are no longer in use could be obliterated by natural or mechanical methods. The obliteration method used would be based on site-specific conditions. Some of the proposed road to be obliterated is located within the roadless areas. An estimated 17.5 miles of road resurfacing/reconstruction would be needed to haul timber and accomplish other treatments. This proposal also includes prescribed burning of 4,500 acres within harvest units and 5,500 acres of forested land outside of harvest units. Approximately 5,000 acres of non-forested grasslands are also proposed for prescribed burning.

A primary result of these activities would be a reduction of accumulated down fuel loadings, which would dramatically decrease the potential for future high intensity wildfires and improve the chance to keep fires that do start to a smaller size. Furthermore, it would prepare the sites for regeneration, enhance wildlife habitat and maintain forest health by bringing fuel levels closer to historic levels. Some thinning of saplings would occur to reduce excessive ladder fuels and lower the risk of crown fire and catastrophic wildfire while allowing residual trees to grow at a sustainable rate. The only ground disturbing activity proposed is the obliteration of 3.5 miles of existing road. Ladder fuel reduction using chainsaws and prescribed fire is proposed for those areas that have become overgrown with smaller diameter trees thus creating a fuel profile that acts as a “fire ladder” to the crowns of the dominant overstory trees.

Issues. The following are the preliminary issues identified: Wildlife habitat; Fuels/Catastrophic Wildfire Risk; Ecosystem Sustainability; Air Quality; Water Quality/Riparian Habitat; Threatened; Endangered and Sensitive (TES) Species; Road Management; Noxious Weeds; Recreation; and Urban interface. This list will be verified, expanded, or modified based on public scoping and interdisciplinary review of this proposal.

Alternative. The Forest Service will consider a full range of alternatives. One of these will be the “no action” alternative in which no active management activities would take place. Another alternative will examine restoration involving no commercial timber harvest. Additional alternatives will examine varying levels, locations, and methods for the proposed activities to achieve the proposal's purposes, as well as to respond to the issues and other resource values. The Forest Service has begun discussions with the Washington State Department of Fish and Wildlife with the objective of looking at all watershed activities in a concerted cooperative process for comprehensive watershed restoration between ownerships.

Scoping Process. Public participation will be especially important at several points during the analysis, beginning with the scoping process. Initial scoping began with the project listing in the 1997 Winter Edition of the Umatilla National Forest's Schedule of Proposed Actions. A public meeting will be scheduled for fall 2003, to discuss the project and other meetings will be scheduled as needed. This environmental analysis and decision making process will enable additional interested and affected people to participate and contribute to the final decision. The public is encouraged to take part in the process and is encouraged to visit with Forest Service officials at any time during the analysis and prior to the decision. The Forest Service will be seeking information, comments, and assistance from Federal, State, local agencies, and other individuals or organizations that may be interested in, or affected by the proposal. This input will be used in preparation of the draft EIS.

Early Notice of Importance of Public Participation in Subsequent Environmental Review: The draft EIS expected to be filed with the Environmental Protection Agency (EPA) and to be available to the public for review February 2004. The comment period on the draft EIS will be 45 days from the EPA publishes the notice of availability in the Federal Register. The final EIS is scheduled to be released September 2004.

The Forest Service believes it is important to give reviewers notice, at this early stage, of several court rulings related to public participation in the environmental review process. First, reviewers of draft EIS's must structure their participation in the environmental review of the proposal so that it is meaningful and alerts the agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc, v. Harris, 490 F. Supp. 1334, 1338 (E.D. Wis. 1980). Because of these court rulings, it is very important that those interested in this proposed action participate by the close of the 45-day comment period so that substantive comments and objections and made available to the Forest Service at a time when it can meaningful consider and respond to them in the Final EIS.

To assist the Forest Service in identifying and considering issues and concerns on the proposed action, comments on the Draft EIS should be as specified as possible. It is also helpful if comments refer to specific pages or chapters of the draft EIS. Comments may also address the adequacy of the draft EIS or merits of the alternatives formulated and discussed in the statement. (Reviewers may wish to refer to the Council on Environmental Quality Regulations for implementing the procedural provisions of the National Environmental Policy Act at 40 CFR 1503.3 in addressing these points.)

In the final EIS, the Forest Service is required to respond to comments and responses received during the comment period that pertain to the environmental consequences discussed at the draft EIS and applicable laws, regulations, and policies considered in making a decision regarding the proposal.

The Forest Service is the lead agency. Monte Fujishin, Pomeroy District Ranger, is the responsible official. The responsible official will decide which, if any, of the proposed projects will be implemented. The decision and reasons for the decision will be documented in the Record of Decision. That decision will be subject to Forest Service Appeal Regulations (36 CFR part 215).

Dated: June 27, 2003.
Jeff D. Blackwood,
Forest Supervisor.

[FR Doc. 03-17300 Filed 7-8-03; 8:45 am]

BILLING CODE 3410-11-M